DEPARTMENT OF THE INTERIOR

Bureau of Land Management

[LLCOS05400-L17110000 PA000 LXSIGGCA0000]

Notice of Proposed Supplementary Rules for Public Lands in Colorado: Gunnison Gorge National Conservation Area (GGNCA) and Adjacent Public Lands Administered by the Bureau of Land Management Uncompahgre Field Office, Montrose and Delta Counties, CO

AGENCY: Bureau of Land Management, Interior.

ACTION: Proposed supplementary rules for the GGNCA and adjacent public lands in southwestern Colorado.

SUMMARY: Bureau of Land Management (BLM) Colorado is proposing supplementary rules for the GGNCA and adjacent public lands included in the 2004 GGNCA Resource Management Plan (RMP) and managed by the GGNCA and Uncompahgre Field Offices in Montrose and Delta Counties, Colorado. The rules implement decisions found in the RMP and relate to the use of the lands, conduct, health and safety of public land users, and protection of natural resources. The proposed rules address off-road vehicle use and safety, firearms, hunting and target shooting, pets and pack stock use, camping, waste disposal, group size limits, permit requirements, and length of stay. These supplementary rules will be added to the current rules in effect for the GGNCA, Gunnison Gorge Wilderness, and adjacent public lands. The supplementary rules will be enforced by BLM law enforcement rangers.

DATES: Please send comments to the following address by November 9, 2009. Comments received or postmarked after this date may not be considered in the development of the final supplementary rules.

ADDRESSES: Please mail or hand-deliver comments to Karen Tucker, GGNCA, BLM Uncompahgre Field Office, 2465 S. Townsend Avenue, Montrose, Colorado 81401.

FOR FURTHER INFORMATION CONTACT: Karen Tucker, GGNCA (970) 240-5300, e-mail: karen_tucker@blm.gov or Ted Moe, BLM Law Enforcement Ranger, (970) 240-5341, e-mail: ted_moe@blm.gov.

SUPPLEMENTARY INFORMATION:

I. Public Comment Procedures

Written comments on the proposed supplementary rules should be specific, confined to issues pertinent to the proposed supplementary rules, and should explain the reason for any recommended change. Where possible, comments should reference the specific section or paragraph of the rules that the comment is addressing. The BLM is not obligated to consider or include in the Administrative Record for the final rules comments that are postmarked or electronically dated after the close of the comment period (see DATES) or comments delivered to an address other than the address listed above (See ADDRESSES).

Comments, including names, street addresses, and other contact information of respondents, will be available for public review at the BLM Uncompahgre Field Office, 2465 S. Townsend Avenue, Montrose, Colorado 81401. Before including your address, phone number, e-mail address, or other personal identifying information in your comment, you should be aware that your entire comment—including your personal identifying information—may be made publicly available at any time. While you can ask us in your comment to withhold your personal identifying information from public review, we cannot guarantee that we will be able to do so.

II. Background

These proposed supplementary rules apply to the Gunnison Gorge National Conservation Area (GGNCA), approximately 62,844 acres of public lands that include the 17,784-acre Gunnison Gorge Wilderness, and 32,937 acres of adjacent public lands managed under the GGNCA management plan. The GGNCA was established by Public Law 106-76 on October 21, 1999.

The GGNCA is located 10 miles north of Montrose, Colorado, bordered by the Black Canyon of the Gunnison National Park to the south. The proposed supplementary rules will help the BLM achieve management objectives and implement decisions in the GGNCA Resource Management Plan (RMP) approved on November 12, 2004. These supplementary rules will also allow the BLM to increase law enforcement efforts that will help mitigate damage to natural resources and provide for public health and safe public recreation.

III. Discussion of the Proposed Supplementary Rules

These proposed supplementary rules apply to a total of 95,781 acres of public lands managed by the BLM within the GGNCA RMP planning area. The area includes 62,844 acres of National Conservation Area (NCA) lands and 32,937 acres of non-NCA lands within Montrose and Delta Counties, Colorado, in the following townships:

Colorado, Sixth Principal Meridian

T. 14 S., R. 95 W. through 93 W.

T. 15 S., R. 95 W. through 93 W.

New Mexico Principal Meridian

T. 51 N., R. 10 W. through 7 W.

T. 50 N., R. 10 W. through 6 W.

T. 49 N., R 9 W. through 8 W.

These rules are consistent with the Record of Decision of the 2004 GGNCA RMP. In preparing the RMP, the BLM sought public review of four alternatives.

The RMP objectives are to protect the GGNCA's and adjacent public lands' natural settings and outstanding wilderness, geologic, cultural, scientific, wildlife, and recreational values, while providing the public a safe and enjoyable experience. An additional objective of the supplementary rules is to protect BLM employees and volunteers charged with maintaining and improving the condition of these natural resources and protect the BLM's investment in recreational facilities, signs, roads and other amenities provided for visitor enjoyment. The goals are to encourage users to obey all rules and regulations in order to increase visitor safety; prevent accidents; reduce human health and sanitation concerns; protect natural and cultural resources; eliminate motorized and non-motorized impacts on sensitive species habitat; reduce conflicts among user groups; and eliminate illegal uses such as vandalism, poaching, bonfires, underage drinking and drug parties, and any unruly behavior that may lead to any of these uses.

The RMP includes specific management actions that restrict certain activities and define allowable uses. The proposed supplementary rules implement these management actions within the GGNCA and adjacent public lands. Many of the proposed supplementary rules apply to the entire area but some apply only to specific areas within the GGNCA. The proposed rules are written to allow for management flexibility.

Rules that limit group size and stay length, restrict camping to designated sites, prohibit the collection of firewood and building of wood fires, and require the use of portable toilets, stoves and/or metal fire containers, are essential to provide maximum protection of the area's wilderness and wild and scenic river values, native riparian vegetation, sensitive wildlife and plant species, and to ensure successful implementation of BLM restoration projects. General travel and off-highway vehicle use regulations implement key RMP decisions intended to enhance user safety and ensure compliance with travel management restrictions to protect critical resources and scenic values in different management areas within the GGNCA and adjacent public lands.

The implementation of these rules in the GGNCA and on adjacent public lands is a major step in providing the resources necessary to meet these goals and objectives. The Uncompaghre Field Office proposes to add these additional supplementary rules to the current rules in effect for the GGNCA and adjacent public lands under the Federal Land Policy and Management Act (FLPMA), Title 43 U.S.C. 1740, and Title 43 CFR 8365.1-6.

IV. Procedural Matters

Executive Order 12866, Regulatory Planning and Review

These supplementary rules are not significant regulatory actions and not subject to review by the Office of Management and Budget under Executive Order 12866. These supplementary rules will not have an annual effect of $100 million or more on the economy. They will not adversely affect in a material way the economy, productivity, competition, jobs, the environment, public health or safety, or State, local, or tribal governments or communities. These supplementary rules will not create a serious inconsistency or otherwise interfere with an action taken or planned by another agency. The supplementary rules do not materially alter the budgetary effects of entitlements, grants, user fees, or loan programs or the rights or obligations of their recipients, nor do they raise novel legal or policy issues. These supplementary rules are merely rules of conduct for public use of a limited area of public lands.

Clarity of the Regulations

Executive Order 12866 requires each agency to write regulations that are simple and easy to understand. The BLM invites your comments on how to make these proposed supplementary rules easier to understand, including answers to questions such as the following:

(1) Are the requirements in the proposed supplementary rules clearly stated?

(2) Do the proposed supplementary rules contain technical language or jargon that interferes with their clarity?

(3) Does the format of the proposed supplementary rules (grouping and order of sections, use of headings, paragraphing, etc.) aid or reduce their clarity?

(4) Would the proposed supplementary rules be easier to understand if they were divided into more (but shorter) sections?

(5) Is the description of the proposed supplementary rules in the SUPPLEMENTARY INFORMATION section of this preamble helpful in understanding the proposed supplementary rules? How could this description be more helpful in making the proposed supplementary rules easier to understand?

Please send any comments you may have on the clarity of the proposed supplementary rules to one of the addresses specified in the ADDRESSES section.

National Environmental Policy Act

The proposed supplementary rules put forth in this notice implement key land use planning decisions in the Approved GGNCA RMP and Record of Decision signed by the BLM State Director of Colorado in November 2004. The four-year RMP process included extensive public input and development of a draft and Proposed RMP and Final Environmental Impact Statement (EIS) for the GGNCA and Gunnison Gorge Wilderness, which was completed in January 2004. During the National Environmental Policy Act process, each alternative was fully analyzed, including the types of decisions set forth in these supplemental rules. The rationale for the decisions made can be found in Chapter 5, Environmental Consequences. The BLM has placed the Final EIS, Approved RMP, and Record of Decision on file in the BLM Administrative Record at the address specified in the ADDRESSES section.

Regulatory Flexibility Act

Congress enacted the Regulatory Flexibility Act (RFA) of 1980, as amended, 5 U.S.C. 601-612, to ensure that government regulations do not unnecessarily or disproportionately burden small entities. The RFA requires a regulatory flexibility analysis if a rule would have a significant economic impact, either detrimental or beneficial, on a substantial number of small entities. The proposed supplementary rules do not have a significant economic impact on entities of any size, but provide for the protection of persons, property, and resources on specific public lands. Therefore, the BLM has determined under the RFA that the proposed supplementary rules would not have a significant economic impact on a substantial number of small entities.

Small Business Regulatory Enforcement Fairness Act (SBREFA)

These supplementary rules are not “major” as defined under 5 U.S.C. 804(2). The supplementary rules merely establish rules of conduct for public use of a limited area of public lands and do not affect commercial or business activities of any kind.

Unfunded Mandates Reform Act

These supplementary rules do not impose an unfunded mandate on State, local, or tribal governments in the aggregate, or the private sector of more than $100 million per year; nor do they have a significant or unique effect on small governments. The rules have no effect on governmental or tribal entities and would impose no requirements on any of these entities. The supplementary rules merely establish rules of conduct for public use of a limited selection of public lands and do not affect tribal, commercial, or business activities of any kind. Therefore, the BLM is not required to prepare a statement containing the information required by the Unfunded Mandates Reform Act (2 U.S.C. 1531 et seq.).

Executive Order 12630, Governmental Actions and Interference With Constitutionally Protected Property Rights (Takings)

These supplementary rules do not have significant takings implications, nor are they capable of interfering with Constitutionally protected property rights. The supplementary rules merely establish rules of conduct for public use of a limited area of public lands and do not affect anyone's property rights. Therefore, the Department of the Interior has determined that these rules will not cause a “taking” of private property or require preparation of a takings assessment under this Executive Order.

Executive Order 13132, Federalism

These supplementary rules will not have a substantial direct effect on the States, the relationship between the national government and the States, nor the distribution of power and responsibilities among the various levels of government. These supplementary rules do not come into conflict with any State law or regulation. Therefore, in accordance with Executive Order 13132, the BLM has determined that these supplementary rules do not have sufficient Federalism implications to warrant preparation of a Federalism Assessment.

Executive Order 12988, Civil Justice Reform

Under Executive Order 12988, the Office of the Solicitor has determined that these rules will not unduly burden the judicial system and that they meet the requirements of sections 3(a) and 3(b)(2) of the Order.

Executive Order 13175, Consultation and Coordination With Indian Tribal Governments

In accordance with Executive Order 13175, the BLM has found that these supplementary rules do not include policies that have tribal implications. None of the lands included in these rules are Indian lands or affect Indian rights.

Paperwork Reduction Act

These supplementary rules do not contain information collection requirements that the Office of Management and Budget must approve under the Paperwork Reduction Act of 1995, 44 U.S.C. 3501 et seq. Any information collection requirements contained in these rules are exempt from the provisions of the Paperwork Reduction Act of 1995, 44 U.S.C. 3518(c)(1). Federal criminal investigations or prosecutions may result from these rules, and the collection of information for these purposes is exempt from the Paperwork Reduction Act.

Supplementary Rules for the Gunnison Gorge National Conservation Area (GGNCA) and Adjacent Public Lands

These supplementary rules apply, except as specifically exempted, to activities within the GGNCA and adjacent public lands administered by the Bureau of Land Management (BLM) near Montrose, Colorado. These supplementary rules are in effect on a year-round basis and will remain in effect until modified by the authorized officer.

1. General Travel Management

a. You must not enter an area designated as closed by a BLM sign or map.

b. You must not use roads and/or trails by motorized or mechanized vehicle or equestrian or pedestrian travel except where designated as open to such use by a BLM sign or map.

c. You must not park in areas not designated for parking by a BLM sign or map.

d. You must not launch or operate any motorized watercraft within the GGNCA or adjacent public lands.

e. You must not operate any vehicle that produces sound exceeding 96 decibels.

f. You must not operate an off-highway vehicle (OHV) with any object or person attached or being towed in any manner unless the off-road vehicle (ORV) is designed and manufactured for such purposes.

2. Vehicle Size and Trail Width

a. You must not operate any vehicle except a motorcycle, ATV, or a UTV (50 inches in width or less) for motorized cross-country travel and/or play within the Flat Top-Peach Valley Recreation Area designated open areas.

b. You must not operate any vehicle greater than 50 inches in width on any designated ATV/UTV routes.

c. You must not operate any vehicle greater than 36 inches in width on any designated single track routes.

3. Firearms, Hunting, Target Shooting and Fireworks

a. Within the GGNCA, you must not discharge a firearm of any kind, including those used for target shooting. Licensed hunters in legitimate pursuit of game during the proper season with appropriate firearms, as defined by the Colorado Division of Wildlife, are exempt from this rule.

b. On public lands adjacent to the GGNCA, you must not target shoot in areas closed to that use by a BLM sign or map.

c. Target shooters must not shoot or discharge any weapon at any object containing glass, or other target material that can shatter and cause a public safety hazard as a result of the projectile impact or explosion.

d. You must not engage in any activities involving the use of paintballs.

e. Persons who shoot or discharge any weapon must remove and properly dispose of all shooting materials, including spent brass or shells, their containers, and any items used as targets.

f. You must not discharge any weapon within 500 yards of any developed recreation site or any other area that has been closed to discharge of firearms.

g. You must not possess or discharge any fireworks.

4. Pets and Pack Stock

a. You must not bring any animal into the GGNCA that is not controlled by visual, audible, or physical means.

b. You must not leave any pets and/or pack stock unattended.

c. You must remove and properly dispose of pet and/or pack stock solid waste when and where indicated by a BLM sign or map.

5. Special Recreation Permits and Registration

a. You must register, purchase permits, and possess proof of permits as indicated by BLM sign or map.

b. If you use the Gunnison Gorge Wilderness as ingress to or egress from the Black Canyon National Park, you must register and purchase a Gunnison Gorge Wilderness permit and possess proof of the permit while in the Wilderness.

6. Group Size Limits

Exceeding group size limits, as indicated by a BLM sign or map, is prohibited.

7. Camping

a. You must not camp in sites or areas not designated as open to camping by a BLM sign or map.

b. Within the Gunnison Gorge Wilderness you must not camp in any site other than the designated campsite(s) reserved by you or your group through the Gunnison Gorge permit system.

c. In designated campsites or camping areas, you must maintain quiet within normal hearing range of any other person or persons, between 10 p.m. and 6 a.m. in accordance with applicable state time zone standards.

d. You must not leave personal belongings overnight in an unattended campsite.

e. You must keep campsites free of trash, litter and debris during the period of occupancy and shall remove all personal equipment and clean sites upon departure.

8. Length of Stay

a. Exceeding length of stay limits, as indicated by a BLM sign or map, is prohibited.

b. The hours of operation are sunrise to sunset in any area that is for day-use only as indicated by a BLM sign or map. You must not enter or remain in such an area after sunset or before sunrise.

9. Campfires and Wood Collecting

a. You must not cut, collect, or use live, dead or down wood except in areas designated open to such use by a BLM sign or map.

b. You must not start or maintain a fire in sites or areas not designated as open for such use by a BLM sign or map.

c. Where allowed, any fire must be fully contained in a metal fire grate, fire pan, or other metal device to contain ashes. Mechanical stoves and other appliances that are fueled by gas and equipped with a valve that allows the operator to control the flame, are among the devices that meet this requirement.

d. When starting or maintaining a fire outside of a developed recreation site, you must not fail to contain and dispose of fire ashes and debris in the manner indicated by a BLM sign or map.

e. You must not burn wood or other material containing nails, glass, or any metal.

10. Human Waste Disposal

You must dispose of solid human waste as indicated by a BLM sign or map.

11. Other Use Authorizations

You must not violate any terms, conditions or stipulations of any permit or other authorization issued for special use of these public lands.

Exemptions: The following persons are exempt from these supplementary rules: any Federal, State, local and/or military employee in the scope of their duties; members of any organized rescue or fire-fighting force in performance of an official duty; and persons, agencies, municipalities, or companies holding an existing special-use permit inside the GGNCA and operating within the scope of their permit.

Definitions: For the purpose of these supplementary rules, the following definitions apply unless modified within a specific part or regulation:

Adjacent public lands means those non-GGNCA BLM public lands immediately adjacent to the GGNCA and/or the Black Canyon of the Gunnison National Park whose management is addressed under the 2004 GGNCA RMP. These lands include: Black Ridge, Fruitland Mesa, West Peach Valley, Flat Top, East Flat Top, and Jones Draw lands.

All Terrain Vehicle (ATV) or Utility Terrain Vehicle (UTV) means off-road vehicles 50 inches or less in overall width and weighing no more than 800 pounds.

Camping means erecting a tent or a shelter of natural or synthetic materials, preparing a sleeping bag or other bedding material for use, or parking a motor vehicle, motor home, or trailer for the purpose or apparent purpose of overnight occupancy while engaged in recreational activities such as hiking, hunting, fishing, bicycling, sightseeing, off-road vehicle activities, or other generally recognized forms of recreation.

Designated campsite or site means a specific location identified by the BLM for camping or other purposes. Designated sites include individual sites in developed campgrounds that contain picnic tables, shelters, parking sites, and/or grills; dispersed campsites containing a sign and natural or man-made parking barricades denoting a designated camping area; and other use areas specifically designated by signs for use by a certain user type including, but not limited to hikers, boaters, equestrians, commercial outfitters, organized groups, or off-highway vehicle HV users.

Designated route means roads and trails open to motorized vehicle use and identified on a map of designated roads and trails that is maintained and available for public inspection at the BLM Uncompahgre Field Office, Montrose, Colorado. Designated roads and motorized trails are open to public use in accordance with such limits and restrictions as are, or may be, specified in the RMP or in future decisions implementing the RMP. However, any road or trail with any restrictive signing or physical barrier, including gates, fences, posts, branches, or rocks intended to prevent use of the road or trail is not a designated motorized road or motorized trail.

Developed recreational site means any site or area that contains structures or capital improvements primarily used by the public for recreation purposes. Such areas or sites may include such features as: delineated spaces or areas for parking, camping or boat launching; sanitation facilities; potable water; grills or fire rings; tables; or controlled access.

Flat Top-Peach Valley Recreation Area means the Flat Top-Peach Valley Special Recreation Management Area designated in the 2004 GGNCA RMP. The recreation area contains developed recreation sites, open riding areas where cross-country travel is permitted, and designated routes and encompasses approximately 9,754 acres of public lands in Montrose County including lands both within and outside the GGNCA.

Gunnison Gorge Wilderness means the congressionally designated Wilderness area within the GGNCA. The Wilderness is managed by the BLM as a Special Recreation Management Area and encompasses approximately 17,784 acres of public lands in Montrose and Delta counties.

Gunnison Gorge permit system means the mandatory self-issuing special recreation permit (SRP) and registration system that applies to all users 16 years of age and older in the Gunnison Gorge Wilderness. Users are required to sign in at a Wilderness trailhead or the Chukar boater put-in site, pay applicable day-use or camping fees, and reserve the designated boater or hiker campsite(s) they intend to use during their stay.

Motorized watercraft means any craft operated upon water that is self-propelled by a non-living power source, including electric power.

Off-highway vehicle (OHV) or off-road vehicle (ORV) means any motorized vehicle capable of, or designated for, travel on or immediately over land, water, or other natural terrain, excluding: (1) Any non-amphibious registered motorboat; (2) any military, fire, emergency, or law enforcement vehicle while being used for emergency purposes: (3) any vehicle whose use is expressly authorized by the authorized officer, or otherwise officially approved; (4) vehicles in official use; and (5) any combat or combat-support vehicle when used in times of national defense emergencies.

Utility Terrain Vehicle (UTV) means any multi-passenger off-highway vehicle most commonly known as UTVs (Utility Terrain Vehicle or just Utility Vehicle) or Side-by-Side Vehicles; they are also known as SxS, RUV (Recreational Utility Vehicle) or MUV (Multi-Use Vehicle). They are called Side-by-Side Vehicles because a driver and passenger(s) sit side-by-side in the vehicle.

Penalties: Any person who violates any of these supplementary rules may be tried before a United States Magistrate and fined no more than $1,000 or imprisoned for no more than 12 months, or both. 43 U.S.C. 1733(a); 43 CFR 8360.0-7. Such violations may also be subject to the enhanced fines provided for by 18 U.S.C. 3571.

Lynn E. Rust,
Acting State Director.

[FR Doc. E9-21659 Filed 9-8-09; 8:45 am]

BILLING CODE 4310-JB-P